DEPARTMENT OF COMMERCE

National Oceanic and Atmospheric Administration

Announcement of Padilla Bay National Estuarine Research Reserve Revised Management Plan

AGENCY: Estuarine Reserves Division, Office of Ocean and Coastal Resource Management, National Ocean Service, National Oceanic and Atmospheric Administration, U.S. Department of Commerce.

ACTION: Notice of Approval and Availability of the Final Revised Management Plan for the Padilla Bay National Estuarine Research Reserve.

SUMMARY: Notice is hereby given that the Estuarine Reserves Division, Office of Ocean and Coastal Resource Management, National Ocean Service, National Oceanic and Atmospheric Administration (NOAA), U.S. Department of Commerce has approved the revised management plan for the Padilla Bay National Estuarine Research Reserve.

The Padilla Bay Reserve was designated in 1980 pursuant to Section 315 of the Coastal Zone Management Act of 1972, as amended, 16 U.S.C. 1461. The reserve has been operating under a management plan approved in 1980. Pursuant to 15 CFR Section 921.33(c), a state must revise their management plan every five years. The submission of this plan brings the reserve into compliance with this requirement and sets a course for successful implementation of the goals and objectives of the reserve.

The mission of the Padilla Bay Reserve is to provide leadership to promote informed management of estuarine and coastal habitats through scientific understanding and encourage good stewardship practices through partnerships, public education, and outreach programs. The management plan establishes three goals consistent with the Reserve's mission. These goals are (1) protect and improve habitat and biological diversity within the boundary of the Reserve, (2) increase the use of the Reserve and its research program to address priority coastal management issues of Washington State and (3) to support informed decision-making and responsible stewardship of coastal communities and ecosystems. Organized in a framework of programmatic goals and objectives, the Padilla Bay Reserve's management plan identifies specific strategies or actions for research, education/interpretation, public access, construction, land acquisition, and resource protection, restoration, and manipulation. Overall, the plan seeks to accomplish the mission of the Reserve by facilitating scientific research, encouraging stewardship, and addressing the local education and outreach needs.

Specifically, stewardship is encompassed under resource protection, habitat restoration, and resource conservation priorities. These priorities address reserve efforts to evaluate natural and anthropogenic processes that affect the reserve and its habitats, support for research and monitoring of important resources, restore and protect natural habitats and to actively educate the public to inform resource management.

Research and monitoring activities support independent research projects within the reserve and its vicinity with resources and background data. Staff and visiting researchers conduct monitoring and research within the boundaries of the reserve and Padilla Bay watershed and use GIS to map critical habitats. Research and monitoring results are made available to others and are translated to public and private users through education, training and outreach programs.

Education at the reserve targets a wide variety of audiences including students, teachers, adults, resource users and coastal decision-maker audiences. The reserve's comprehensive approach to education including a K-12 education program, outreach and a coastal training program are designed to increase knowledge of the target audiences about Pacific Northwest estuaries. Public access at the Padilla Bay Reserve includes trails, an observation deck and boat launches.

Administration at the reserve includes supporting the staffing and budget necessary to carry out the goals and objectives of the plan. The administration of the Padilla Bay Reserve is a collective effort involving the Washington State Department of Ecology (WDOE), other state or local agencies and organizations, a Reserve oversight and programmatic advisory committee for research, education, coastal training, and stewardship, and the Padilla Bay Foundation. An established administrative framework implements and coordinates Reserve programs under the plan.

FOR FURTHER INFORMATION CONTACT: Nina Garfield at (301) 563-1171 or Laurie McGilvray at (301) 563-1158 of NOAA's National Ocean Service, Estuarine Reserves Division, 1305 East-West Highway, N/ORM5, 10th floor, Silver Spring, MD 20910.

Dated: September 17, 2008.
David M. Kennedy,
Director, Office of Ocean and Coastal Resource Management, National Oceanic and Atmospheric Administration.

[FR Doc. E8-22571 Filed 9-24-08; 8:45 am]

BILLING CODE 3510-08-P